DEPARTMENT OF COMMERCE

National Oceanic and Atmospheric Administration

[I.D. 011105C]

Proposed Information Collection; Comment Request; Southeast Region Vessel Identification Requirements

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before March 15, 2005.

ADDRESSES: Direct all written comments to Diana Hynek, Departmental Paperwork Clearance Officer, Department of Commerce, Room 6625, 14th and Constitution Avenue, NW, Washington, DC 20230 (or via the Internet at dHynek@doc.gov).

FOR FURTHER INFORMATION CONTACT: Requests for additional information or copies of the information collection instrument and instructions should be directed to Robert Sadler, NMFS, 9721 Executive Center Drive N., St. Petersburg, FL 33702; (phone 727-570-5760).

SUPPLEMENTARY INFORMATION:

I. Abstract

Regulations at 50 CFR 622.6 and 640.6 require that all vessels with Federal permits to fish in the Southeast, and all vessels that fish for or possess shrimp in the Gulf, Exclusive Economic Zone (EEZ), display the vessel's official number and, additionally, those vessels with fish traps must display its traps' color codes. The numbers and colors codes must be in a specific size and displayed on the port and starboard sides of the deckhouse or hull and on a weather deck. The display of the identifying number and color-codes aids in fishery law enforcement.

II. Method of Collection

No information is collected.

III. Data

OMB Number: 0648-0358.

Form Number: None.

Type of Review: Regular submission.

Affected Public: Business or other for-profit organizations, and individuals or households.

Estimated Number of Respondents: 8,043.

Estimated Time Per Response: 45 minutes (15 minutes for each of three markings) for fishing and shrimp vessels; 30 minutes (10 minutes for each of three markings) for vessels with fish traps.

Estimated Total Annual Burden Hours: 6,133.

Estimated Total Annual Cost to Public: $245,290.

IV. Request for Comments

Comments are invited on: (a) whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: January 7, 2005.
Gwellnar Banks,
Management Analyst, Office of the Chief Information Officer.

[FR Doc. 05-837 Filed 1-13-05; 8:45 am]

BILLING CODE 3510-22-S